FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—02/19/2002
20020388 | deCODE genetics, Inc | MediChem Life Sciences, Inc | MediChem Life Sciences, Inc
20020417 | Carl C. Icahn | Imclone Systems Incorporated | Imclone Systems Incorporated
20020420 | McLaren Health Care Corporation | Bay Medical Center | Bay Medical Center
20020428 | ESL Partners, L.P | AutoNation, Inc | AutoNation, Inc
20020429 | The Nichido Fire and Marine Insurance Company, Limited | The Tokio Marine and Fire Insurance Company, Ltd | The Tokio Marine and Fire Insurance Company, Ltd
20020430 | Liberty Mutual Holding Company, Inc | Liberty Mutual Fire Insurance Company | Liberty Mutual Fire Insurance Company
20020431 | Liberty Mutual Holding Company, Inc | Employers Insurance of Wausau Mutual Holding Company | Employers Insurance of Wausau Mutual Holding Company
20020436 | The 1818 Fund III, L.P | Xspedius Holding Corp | Xspedius Holding Corp
20020440 | Ziff Asset Management, L.P | AutoNation, Inc | AutoNation, Inc
20020447 | Nexfor, Inc | International Paper Company | International Paper Company
20020451 | Cinergy Corp | Oak Mountain Acquisition Company, LLC | Oak Mountain Products, LLC
Transactions Granted Early Termination—02/20/2002
20020410 | The Toronto-Dominion Bank | John S. Stafford, Jr | JSS Investments, L.L.C
20020438 | Corvis Corporation | Dorsal Networks, Inc | Dorsal Networks, Inc
Transactions Granted Early Termination—02/26/2002
20020404 | Grupo Industrial Bimbo, S.A. de C.V. (a Mexican corp.) | W. Galen Weston | Entenmann's Inc
|  |  | Entenmann's Products, Inc
|  |  | Entenmann's Sales Company, Inc
|  |  | George Weston Bakeries, Inc
20020435 | The Lubrizol Corporation | William Frost | Chemron Corporation
20020448 | U.S. Unwired, Inc | Georgia PCS Management, L.L.C | Georgia PCS Management, L.L.C
20020449 | EMCOR Group, Inc | Comfort Systems USA, Inc | CSUSA Holdings L.L.C
20020450 | Forbo Holding AG | Dainippon Ink and Chemicals, Incorporated | Reichhold, Inc
20020452 | SmartForce Public Limited Company | Centra Software, Inc | Centra Software, Inc
20020453 | O. Bruton Smith | Donald E. Massey | Arngar, Inc
|  |  | Capitol Cadillac Corp
|  |  | Crest Cadillac Corp
|  |  | Donald Massey Buick Inc
|  |  | Donald Massey Cadillac Inc
|  |  | Massey Cadillac, Inc
|  |  | Massey Cadillac, Incorporated
|  |  | Massey Chevrolet, Inc
|  |  | Massey-Cadillac-Oldsmobile, Ltd
20020454 | First Reserve Fund IX, L.P | Frank Vallentine Novak, Jr | Welding Services, Inc
20020455 | First Reserve Fund IX, L.P | Philip Nelson Hulsizer | Welding Services, Inc
20020456 | Berkshire Hathaway Inc | Carl M. Bouckaert and Marie T. Bouckaert | Beaulieu Group, LLC
|  |  | South Richmond Chemical, LLC
20020458 | First Horizon Pharmaceutical Corporation | AstraZeneca plc | AstraZeneca UK Limited
20020460 | US Unwired Inc | IWO Holdings, Inc | IWO Holdings, Inc
20020463 | Exxon Mobil Corporation | Solutia Inc | Advanced Elastomer Systems, L.P
20020470 | JAKKS Pacific, Inc | Toymax International, Inc | Toymax International, Inc
20020472 | Giant Industries Inc | BP, p.l.c | BP Corporation North America Inc
20020478 | Deutsche Post AG | DHL International Limited | DHL International Limited
Transactions Granted Early Termination—02/28/2002
20020434 | Cablevision Systems Corporation | Loral Space & Communications Ltd | R/L DBS Company L.L.C
20020457 | Keane, Inc | Arlington Capital Partners, L.P | SignalTree Solutions Holdings, Inc
20020459 | Kvaerner ASA | Kjell Inge Rokke | Aker Oil & Gas Holding AS
20020461 | Spectrum Equity Investors IV, L.P | Broadwing, Inc | Cincinnati Bell Director Inc
20020468 | Joseph M. & Marie H. Field | Jeffrey H. Smulyan | Emmis Radio License Corporation
|  |  | Emmis Radio Corporation

FOR FURTHER INFORMATION CONTACT: Sandra M. Peay or Chandra L. Kennedy, Contact Representatives.

Federal Trade Commission, Premerger Notification Office, Bureau of Competition, Room 303, Washington, DC 20580, (202) 326-3100.

By direction of the Commission.
Donald S. Clark,
Secretary.

[FR Doc. 02-6253 Filed 3-14-02; 8:45 am]

BILLING CODE 6750-01-M